ENVIRONMENTAL PROTECTION AGENCY

[ER-FRL-8592-2].

Environmental Impacts Statements; Notice of Availability

Responsible Agency: Office of Federal Activities, General Information, (202) 564-1399 or http://www.epa.gov/compliance/nepa/.

Weekly receipt of Environmental Impact Statements

Filed 03/30/2009 Through 04/03/2009

Pursuant to 40 CFR 1506.9.

EIS No. 20090097, Final Supplement, COE, NC, Topsail Beach Interim (Emergency) Beach Fill Project—Permit Request, Proposal to Place Sand on 4.7 miles of the Town's Shoreline to Protect the Dune Complex and Oceanfront Development, Onslow and Pender Counties, NC, Wait Period Ends: 05/11/2009, Contact: Dave Timpy, 910-251-4634.

EIS No. 20090098, Draft EIS, NPS, WY, Jackson Hole Airport Use Agreement Extension Project, To Enable Continued Air Transportation Services, Grand Teton National Park, Teton County, WY, Comment Period Ends: 06/10/2009, Contact: Jennifer Carpenter, 307-739-3465.

EIS No. 20090099, Final EIS, FHW, MT, US-212 Reconstruction Project, from Rockvale to Laurel, Proposes to Improve Safety for Local and Regional Traffic Area, Yellowstone and Carbon Counties, MT, Wait Period Ends: 05/11/2009, Contact: Alan C. Woodmansey, P.E., 406-449-5302 Ext. 233.

EIS No. 20090100, Draft EIS, BLM, UT, Mona to Oquirrh Transmission Corridor Project, Construction, Operation, Maintenance and Decommissioning a Double-Circuit 500/345 Kilovolt (kV) Transmission Line, Right-of-Way Grant, Rocky Mountain Power, Juab, Salt Lake, Tooele and Utah Counties, UT, Comment Period Ends: 07/08/2009, Contact: Clara Stevens, 435-743-3100.

EIS No. 20090101, Draft EIS, AFS, CA, Lake Tahoe Basin Management Unit South Shore Fuel Reduction and Healthy Forest Restoration, To Manage Fuel Reduction and Forest Health in the Wildland Urban Intermit (WUI), El Dorado County, CA, Comment Period Ends: 05/26/2009, Contact: Duncan Leao, 530-543-2660.

EIS No. 20090102, Draft EIS, FAA, 00, Programmatic—Streamlining the Processing of Experimental Permit Applications, Issuing Experimental Permits for the Launch and Reentry of Useable Suborbital Rockets, Comment Period Ends: 05/26/2009, Contact: Stacey M. Zee, 202-267-9305.

EIS No. 20090103, Final Supplement, NOA, 00, Amendment 18 to the Fishery Management Plan, Pelagic Fisheries of the Western Pacific Region, Management Modifications for the Hawaii-Based Shallow-Set Longline Swordfish Fishery, Proposal to Remove Effort Limits, Eliminate the Set Certificate Program and Implement New Sea Turtle Interaction Caps, Wait Period Ends: 05/11/2009, Contact: William L. Robinson, 808-944-2200.

EIS No. 20090104, Draft EIS, BIA, NY, Cayuga Indian Nation of New York Conveyance of Land into Trust Project, Approval of a 125+ Acre Fee-To-Trust Property Transfer of Seven Separate Parcels Located in the Village of Union Springs and Town of Springport and Montezuma in Cayuga County and the Town of Seneca Falls in Seneca County, NY, Comment Period Ends: 05/26/2009, Contact: Kurt G. Chandler, 615-564-6832.

EIS No. 20090105, Draft EIS, AFS, MT, Lower West Fork Project, To Treat Units in and Adjacent to the Wildland-Urban-Interface (WUI) With Prescribed Fire, and Commercial and Pre-Commercial Thins, West Fork Ranger District, Bitterroot National Forest, Ravalli County, MT, Comment Period Ends: 05/26/2009, Contact: Dave Campbell, 406-821-3269.

EIS No. 20090106, Draft EIS, AFS, SD, Slate Castle Project Area, Proposes To Implement Multiple Resource Management Actions, Mystic Ranger District, Black Hills National Forest, Pennington County, SD, Comment Period Ends: 05/26/2009, Contact: Katie Van Alstyne, 605-343-1567.

EIS No. 20090107, Second Draft Supplement, NRS, WV, Lost River Subwatershed of the Potomac River Watershed Project, Construction of Site 16 on Lower Cove Run and Deletion of Site 23 on Cullers Run in the Lost River Watershed, Change in Purpose for Site 16 and Updates Information Relative to Site 23, U.S. Army COE Section 404 Permit, Hardy County, WV, Comment Period Ends: 05/27/2009, Contact: Kevin Wickey, 304-284-7540.

EIS No. 20090108, Draft EIS, AFS, CA, Thom-Seider Vegetation Management and Fuels Reduction Project, To Respond to the Increasing Density and Fuels Hazard Evident along the Klamath River between Hamburg and Happy Camp, Klamath National Forest, Siskiyou County, CA, Comment Period Ends: 05/26/2009, Contact: Carol J. Sharp, 530-493-1734.

EIS No. 20090109, Draft Supplement, AFS, UT, Pockets Resource Management Project, Additional Information on Analysis and Disclosure on the Effect of the PA and Alternatives on Three Unroaded and Undeveloped Areas Identified on a 2005 Draft Map, Proposes To Salvage Dead and Dying Spruce/Fir, Regenerate Aspen, and Manage Travel, Escalate Ranger District, Dixie National Forest, Garfield County, UT, Comment Period Ends: 05/26/2009, Contact: Marianne Orton, 435-676-9360.

EIS No. 20090110, Final EIS, USN, NJ, Laurelwood Housing Area, Access at Naval Weapons Station Earle, Lease Agreement, Monmouth County, NJ, Wait Period Ends: 05/11/2009, Contact: Kimberly Joyner-Banty, 757-322-8473.

EIS No. 20090111, Final EIS, COE, CA, Middle Harbor Redevelopment Project, Proposal To Increase Container Terminal Efficiency To Accommodate a Portion of the Predicted Future Containerized Cargo, Section 10 and 404 Permits, Port of Long Beach, Los Angeles County, CA, Wait Period Ends: 05/11/2009, Contact: Antal Szijj, 805-585-2147.

Amended Notices

EIS No. 20090023, Draft EIS, AFS, CA, Sequoia National Forest Motorized Travel Management Project, To Prohibit Cross-Country Travel for Managing Motorized Travel, Kern River, Western Divide Ranger Districts, Sequoia National Forest, Tulare County, CA, Comment Period Ends: 04/20/2009, Contact: Barbara Johnston, 559-784-1500 Ext. 1220, Revision to FR Notice Published 01/30/2009: Extending Comment Period From 03/31/2009 to 04/20/2009.

EIS No. 20090092, Draft EIS, FHW, MO, East Columbia Transportation Project, To Improve the Transportation Network in Eastern Columbia/Boone County by: (1) Extending Route 740 From Its Terminus at US-63, along a New Alignment, to I-70 at the existing St. Charles Road Interchange, (2) Improving Existing Broadway (Route WW) to Olivet Road and (3) Extending Ballenger Lane, From Future Route 740 to Clark Lane, City of Columbia, Boone County, MO, Comment Period Ends: 05/18/2009, Contact: Peggy Casey, 573-636-7104, Revision to FR Notice Published 04/03/2009: Correction to title.

Dated: April 7, 2009.
Robert W. Hargrove,
Director, NEPA Compliance Division, Office of Federal Activities.

[FR Doc. E9-8247 Filed 4-9-09; 8:45 am]

BILLING CODE 6560-50-P